DEPARTMENT OF COMMERCE

National Oceanic and Atmospheric Administration

50 CFR Part 660

[Docket No. 051213334-5334-01; I.D. 112905C]

RIN 0648-AS27

Magnuson-Stevens Act Provisions; Fisheries Off West Coast States and in the Western Pacific; Pacific Coast Groundfish Fishery

AGENCY: National Marine Fisheries Service (NMFS), National Oceanic and Atmospheric Administration (NOAA), Commerce.

ACTION: Proposed rule; request for comments.

SUMMARY: NMFS proposes a rule to implement Amendment 19 to the Pacific Coast Groundfish Fishery Management Plan (FMP). Amendment 19 provides for a comprehensive program to describe and protect essential fish habitat (EFH) for Pacific Coast Groundfish. The proposed management measures are intended to minimize, to the extent practicable, adverse effects to EFH from fishing. The measures include fishing gear restrictions and prohibitions, areas that would be closed to bottom trawl, and areas that would be closed to all fishing that contacts the bottom.

DATES: Comments on this proposed rule must be received by 5 p.m. local time February 27, 2006.

ADDRESSES: You may submit comments on this proposed rule identified by I.D. 112905C by any of the following methods:

• E-mail: GroundfishEFHproposedrule.nwr@noaa.gov Include ID 112905C in the subject line of the message.

• Federal eRulemaking Portal: http://www.regulations.gov. Follow the instructions for submitting comments.

• Fax: 206-526-6736, Attn: Steve Copps.

• Mail: D. Robert Lohn, Administrator, Northwest Region, NMFS, 7600 Sand Point Way NE, Seattle, WA 98115-0070, Attn: Steve Copps.

Copies of Amendment 19, which includes a regulatory impact review (RIR/IRFA) and the Final Environmental Impact Statement—(FEIS) on EFH for Pacific Coast Groundfish and Amendment 19 to the Pacific Coast Groundfish FMP are available for public review during business hours at the office of the Pacific Fishery Management Council (Pacific Council), at 7700 NE Ambassador Place, Portland, OR 97220, phone: 503-820-2280. Copies of additional reports referred to in this document may also be obtained from the Pacific Council.

FOR FURTHER INFORMATION CONTACT: Steve Copps (Northwest Region, NMFS), phone: 206-526-6140; fax: 206-526-6736 and; e-mail: steve.copps@noaa.gov.

SUPPLEMENTARY INFORMATION:

Electronic Access

The proposed rule also is accessible via the Internet at the Office of the Federal Register's website at http://www.gpoaccess.gov/fr/index.html. Background information and documents are available at the NMFS Northwest Region website at http://www.nwr.noaa.gov/ and at the Pacific Council's website at http://www.pcouncil.org.

Background

Amendment 19 to the FMP has been developed by NMFS and the Pacific Council to comply with section 303(a)(7) of the Magnuson-Stevens Fishery Conservation and Management Act (Magnuson-Stevens Act) by amending the Pacific Coast Groundfish FMP to: (1) Describe and identify EFH for the fishery, (2) designate Habitat Areas of Particular Concern (HAPAC), (3) minimize to the extent practicable the adverse effects of fishing on EFH, and (4) identify other actions to encourage the conservation and enhancement of EFH. This proposed rule is based on recommendations of the Pacific Council, under the authority of the Pacific Coast Groundfish FMP and the Magnuson-Stevens Act. Background information and the Pacific Council's recommendations are summarized below. Further details are in the FEIS/RIR/IRFA prepared by NMFS for this action.

NMFS considered the environmental effects of this action in an environmental impact statement (EIS) for the comprehensive strategy to conserve and enhance EFH for fish managed under the FMP. The notice of availability for the FEIS was published on December 9, 2005, (70 FR 73233). The comprehensive strategy to conserve EFH, including its identification and the implementation of measures to minimize, to the extent practicable, adverse impacts to EFH from fishing is consistent with provisions in the Magnuson-Stevens Act and implementing regulations. The Magnuson-Stevens Act is the principal legal basis for Federal fishery management within the exclusive economic zone (EEZ), which extends from the outer boundary of the territorial sea to a distance of 200 nautical miles from shore.

The EIS was prepared in order to comply with a 2000 court order in American Oceans Campaign et. al. v. Daley, Civil Action 99-982 (GK) (D.D.C. September 14, 2000). The Court ordered NMFS and the Pacific Council to prepare an EIS to evaluate the effects of fishing on EFH and identify and evaluate a reasonable range of alternatives for measures to minimize those impacts, to the extent practicable. The public comment period on the draft EIS ended on May 11, 2005. The Pacific Council identified a final preferred alternative at their June 13-17, 2005, meeting in Foster City, CA. The FEIS includes the identification and evaluation of the final preferred alternative, responses to comments on the DEIS and appropriate revisions from the Draft Environmental Impact Statement (DEIS). After the FEIS is published, a 30-day “cooling off” period ensues before the responsible official may sign a record of decision and implement the proposed action. NMFS must approve any amendments to the Pacific Coast Groundfish FMP amendment or implementing regulations it deems necessary by May 6, 2006.

The purpose of Amendment 19 is: First, to provide the Pacific Council and NMFS with the information they need to better account for the function of Pacific Coast groundfish EFH when making fishery management decisions; second, to ensure that this EFH is capable of sustaining groundfish stocks at levels that support sustainable fisheries; and third, to ensure that EFH is a healthy component of fully functioning ecosystems. The amendment is needed because the Pacific Council and NMFS have not had the tools to consider groundfish habitat and ecosystem function, and their relation to other biological and socioeconomic conditions affecting the groundfish fishery, in management decision-making. The Pacific Council considered draft amendatory language for the Pacific Coast Groundfish FMP at its September 19-23, 2005, meeting in Portland, OR, and finalized its recommendations at its October 30-November 4, 2005, meeting in San Diego, CA. On November 23, 2005, the Pacific Council transmitted Amendment 19 to NMFS, asking that NMFS make Amendment 19 available for public review via the Magnuson-Stevens Act review process. NMFS published a Notice of Availability for Amendment 19 on December 7, 2005 (70 FR 72777), and will take public comments on Amendment 19 through February 6, 2006.

In the Magnuson-Stevens Act, Congress found that “one of the greatest long-term threats to the viability of commercial and recreational fisheries is the continuing loss of marine, estuarine, and other aquatic habitats” and “habitat considerations should receive increased attention for the conservation and management of fishery resources of the United States (16 U.S.C. 1801(a)(9)).” Furthermore, one of the long-term goals for the groundfish fishery, adopted by the Pacific Council in its strategic plan, is “to protect, maintain, and/or recover those habitats necessary for healthy fish populations and the productivity of those habitats.” This proposed rule provides the management measures that are being considered under Amendment 19 to the FMP that are intended to minimize to the extent practicable adverse impacts to EFH.

EFH Identification and Description in Amendment 19

The Pacific Council is required to identify and describe EFH for all managed species based on a scientific process to determine the extent of habitat that is essential for managed species throughout their life history. EFH is defined by the Magnuson-Stevens Act to mean those waters and substrate necessary to fish for spawning, breeding, feeding, or growth to maturity (16 U.S.C. 1802 (10)). EFH identification and description provides the basis for the statutory requirement for Federal agencies to consult on actions that may adversely affect EFH and provides geographic focus for development of conservation strategies. EFH is identified and described in an amendment to the Pacific Coast Groundfish FMP and does not require implementation through regulation; however, the EFH description is summarized in this proposed rule due to its connection to proposed management measures.

The identification and description of EFH does not in and of itself have direct effects on habitat, the status of groundfish stocks, or the ecosystem; however, the geographic focus it provides can serve as a tool for managers to focus conservation efforts and stewardship over the habitat component of groundfish resources. Section 303(a)(7) of the Magnuson-Stevens Act requires that adverse effects from fishing on EFH must be minimized to the extent practicable and other actions encouraged that would conserve and enhance such habitat. In addition, the identification and description of EFH provides the basis for the consultation process as described in section 305(b) of the Magnuson-Stevens Act, which states that Federal action agencies must consult with NMFS on any action that may adversely affect EFH. Identification and description of EFH is a management tool that is the starting point for considering EFH conservation and enhancement.

Under Amendment 19 to the Pacific Coast Groundfish FMP, the overall extent of groundfish EFH for all fishery management unit species is identified as all waters and substrate within the following areas:

• Depths less than or equal to 3,500 m (1,914 fm) shoreward to the mean higher high water level or the upriver extent of saltwater intrusion (defined as upstream and landward to where ocean-derived salts measure less than 0.5 parts per thousand during the period of average annual low flow).

• Seamounts in depths greater than 3,500 m (1,914 fm), as mapped in the EFH assessment geographic information system.

This includes 187,741 square miles in the EEZ, and to the mean higher high water line and upriver extent of salt water, as EFH.

To identify EFH, NMFS gathered all available information on location of groundfish species, and then used a model to determine the relationship between the location of the fish and information including substrate, estuaries, kelp, seagrass, invertebrates, bathymetry, latitude, pelagic habitat, and available literature on functional relationships between fish and habitat. This allowed NMFS and the Pacific Council to consider a large amount of information regarding where groundfish are found and their habitat associations. NMFS and the Pacific Council also considered the rebuilding needs of overfished groundfish species managed under the Pacific Coast Groundfish FMP. Even though NMFS had a huge amount of information available that it considered, there still are data gaps and NMFS was not able to quantify the relationship between habitat and groundfish abundance. Therefore, the preferred alternative takes a precautionary approach that defines EFH as moderately exceeding known areas where groundfish occur. This precautionary approach is intended to account for any possible errors in the model. Maps and text descriptions of EFH are also included in Amendment 19 to the Pacific Coast Groundfish FMP.

HAPC in Amendment 19

Although the Magnuson-Stevens Act does not require Councils to designate HAPCs, NMFS encourages them to do so, based on one or more of the following considerations from the EFH regulations at 50 CFR 600.815(a)(8): (1) The importance of the ecological function provided by the habitat; (2) the extent to which the habitat is sensitive to human-induced environmental degradation; (3) whether, and to what extent, development activities are, or will be, stressing the habitat type; and, (4) the rarity of the habitat type.

The Pacific Council and NMFS are considering designation of estuaries, canopy kelp, seagrass, rocky reefs, areas of interest, and oil production platforms as HAPCs through Amendment 19 to the Pacific Coast Groundfish FMP. The amendment was developed by the Pacific Council and NMFS to meet the four considerations listed in the EFH regulations. The HAPCs, if approved, will be designated through Amendment 19 to the FMP and do not require rulemaking, so are not considered further in this proposed rule. Copies of the FMP amendment are available through NMFS (see ADDRESSES).

Minimization of Adverse Impacts From Fishing

The Magnuson-Stevens Act mandates that the Pacific Coast Groundfish FMP contain measures to minimize to the extent practicable adverse effects from fishing on EFH. The EFH guidelines establish that Councils must act to minimize to the extent practicable adverse effects from fishing when such effects are more than minimal and temporary in nature (50 CFR 600.815). Adverse effect means any impact that reduces the quality and/or quantity of EFH. Adverse effects may include direct or indirect physical, chemical, or biological alterations of the waters or substrate and loss of, or injury to, benthic organisms, prey species and their habitat, and other ecosystem components, if such modifications reduce the quality and/or quantity of EFH. Adverse effects to EFH may result from actions occurring within EFH or outside EFH, and may include site-specific or habitat-wide impacts, including individual, cumulative, or synergistic consequences of actions (50 CFR 600.810).

NMFS and the Pacific Council undertook an assessment process to determine if and where adverse effects to EFH have occurred or are occurring. As a result of the assessment process, NMFS determined that the best available information is not sufficient to support a definitive determination of adverse effects on EFH from fishing. However, based on all the information available regarding impacts of fishing, NMFS and the Pacific Council concluded there is a potential for adverse effects. Therefore, NMFS is proposing certain management measures that would protect EFH from potential adverse effects of fishing. It is practicable to take precautionary action to protect EFH because the proposed management measures would protect EFH and have insignificant socioeconomic consequences.

The central constraint for determining if adverse impacts have occurred or are occurring is insufficient data of the necessary resolution to model a relationship between the intensity of fishing effort and effects on habitat. Three variables are fundamental to assessing the status of habitat: The locations and intensity of fishing impacts, the sensitivity of specific habitat types to specific impacts at differing levels of intensity, and the potential for habitat to recover between impact events. Each of the habitat types on the West Coast is likely to react differently to different types and intensity of impact and have unique rates of recovery. The status of habitat is a balance between how the habitat was affected by an impact and how much recovery takes place between impacts. Although it is not possible at this time to quantify the status of habitat, several principles were utilized as the environmental basis for the management measures as follows: (1) Habitat that has not been subject to impact is considered pristine; (2) the sensitivity of habitat to impact governs the rate at which adverse effects occur (e.g., highly sensitive habitat is subject to adverse effect with relatively little fishing effort); (3) there is a maximal level of impact for any given habitat at which no further adverse effects would occur; (4) habitat has a limited capacity to recover from impact, and recovery is ongoing from some point in time after the impact ceases; (5) repeated contact with fishing gear will cause the status of habitats to become more impacted while recovery between contacts allows the habitat to become less impacted; (6) adverse impacts to habitat can impair the ability of fish to carry out basic biological functions such as spawning, feeding, breeding, and growth to maturity; and (7) large-scale modification to habitat may have long-lasting or permanent implications at the scale of the ecosystem.

Known effects of fishing on EFH are focused on physical alteration to habitat and changes in biodiversity that result from impact. It is not known if or to what extent such effects alter the dynamics of fish stocks. The relevance of this limitation is that management measures cannot be quantitatively constructed to increase production of groundfish or enhance ecosystem function. Even with this data limitation, NMFS is able to base the management measures on the potential adverse effects of fishing on EFH.

Fish, like all organisms, rely on habitat for their survival. The habitat requirements of many fish change depending on the life history stage. Pacific coast rockfish, for example, spend their early life history as eggs and larvae floating in the water column before settling as juveniles on the substrate, where they grow to maturity and reproduce. Although its value cannot be quantified, healthy functioning habitat is critical for populations of fish to sustain themselves and there is a level at which adverse impacts to habitat will impair the ability of fish to do so. Benthic and pelagic habitats are fundamental components of the ecosystems off the West Coast as are the fish and other organisms that rely on them. It follows that large-scale modification to habitat can result in fundamental change to the ecosystem. For example, if a complex habitat that supports reproduction of a species is modified to the point that the species can no longer reproduce successfully there, and the species is unable to adapt and reproduce elsewhere, the survival of the species and its role in the ecosystem would be threatened. The extent of the threat would depend on the extent of the modification (e.g., all of the habitat non-functional or just a portion), and the related ability of the habitat to recover and/or the species to adapt to alternative habitats. Some habitats may take a long time to recover or may reach an alternative stable state from which a return to its former state is highly unlikely, even following a complete removal of impacts, and thus evolve into a new role in the ecosystem.

NMFS and the Pacific Council considered fishing gear restrictions and area closures as the primary tools for minimizing adverse effects to EFH based on a report by the National Academy of Sciences, National Research Council. These measures directly control where impacts may occur and the type of impact, based on gear type, that would be allowed.¹ Gear types were ranked for their potential to have adverse effects in the following order: (1) Bottom-tending mobile gear types (e.g., bottom trawl in which the otter boards or the footrope of the net are in contact with the seabed) and (2) other gears that contact the bottom. Gear types that do not contact the bottom were not prioritized. Pristine benthic habitat was prioritized with an emphasis on biogenic habitat (e.g., deep sea corals) as was hard bottom due to its potential ecological complexity and sensitivity to impact. NMFS also conducted a literature review of the best available information to determine impacts on EFH from fishing gear. This information is provided in the EIS and is available from NMFS (see ADDRESSES). The EIS considers impacts from the gear types that are used off the West Coast. The information available on impacts from fishing gear is primarily from other areas of the world and not the West Coast. Although the information is from other areas of the world, it was considered in the context of West Coast habitat and gear types and provides a solid basis for determining there is a potential for adverse impacts on EFH.

¹ NRC (National Research Council). 2002. Effects of Trawling and Dredging on Seafloor Habitat. National Academy Press, Washington, DC.

NMFS and the Pacific Council worked closely with environmental groups and the fishing industry to determine appropriate gear restrictions and area closures to minimize adverse effects on EFH and with minimal negative socioeconomic effects. The selection of the specific closed areas was an iterative process with many opportunities for public input through Pacific Council meetings, local outreach meetings, and comments on the DEIS. The closed areas proposed here are based on all the above input and a collaborative process involving Oceana; groundfish trawl fishermen, organized by the Fishermen's Marketing Association; the Fisheries Heritage Group, bringing together harbor managers, the Nature Conservancy, Environmental Defense, the Center for Future Oceans, and fisheries representatives; Pacific Council advisory bodies; and West Coast states. By combining the perspectives of these groups, the management measures are practicable because they implement the mandate to conserve EFH while taking into account the effects on fishing communities.

Proposed Management Measures in Amendment 19

NMFS and the Pacific Council developed a suite of management measures that include gear restrictions and area closures. The gear restrictions are as follows: (1) Bottom trawl gear with footropes larger than eight inches (20 cm) in diameter is prohibited shoreward of a line approximating the 100-fm (183 m) depth contour; (2) the use of bottom trawl footrope gear with a footrope diameter larger than 19 inches (48 cm) is prohibited; (3) the use of dredge gear is prohibited; and (4) the use of beam trawl gear is prohibited.

The Pacific Council has identified discrete areas that are closed to fishing with specified gear types. These ecologically important habitat closed areas are intended to minimize to the extent practicable the adverse effects of fishing on groundfish EFH. There are two types of closures. First are areas where bottom trawling would be prohibited. Second are areas where bottom-contacting gears would be prohibited. The extent and configuration of these areas do not vary seasonally and they are not usually modified through inseason or biennial management actions and may be considered Marine Managed Areas. The areas are listed below and described in the attached regulatory text by specific latitude and longitude coordinates.

Areas off the coast of Washington where bottom trawling would be prohibited are:

Olympic 2; Biogenic 1; Biogenic 2; Grays Canyon; and, Biogenic 3.

Areas off the coast of Oregon where bottom trawling would be prohibited are: Nehalem Bank/Shale Pile; Astoria Canyon; Siletz Deepwater; Daisy Bank/Nelson Island; Newport Rockpile/Stonewall Bank; Heceta Bank; Deepwater off Coos Bay; Bandon High Spot; Rogue Canyon.

Areas off the coast of California where bottom trawling would be prohibited include: Eel River Canyon; Blunts Reef; Mendocino Ridge; Delgada Canyon; Tolo Bank; Pt Arena South Biogenic Area; Biogenic Area; Pt Arena South Biogenic Area; Farallon Islands/Fanny Shoal; Half Moon Bay; Monterey Bay/Canyon; Point Sur Deep; Big Sur Coast/Port San Luis; East Santa Lucia Bank; Point Conception; Potato Bank; Cherry Bank; Hidden Reef/Kidney Bank; Catalina Island; and Cowcod Conservation Area East.

Areas off Oregon where bottom contact gear would be prohibited include: Thompson Seamount; and President Jackson Seamount.

Areas off California where bottom contact gear would be prohibited include: Cordell Bank (50 fm (91 m) isobath); Anacapa Island MCA; Anacapa Island MR; Carrington Point; Footprint; Gull Island; Harris Point; Judith Rock; Painted Cove; Richardson Rock; Santa Barbara; Scorpion; Skunk Point; and South Point. Bottom contact gear at Davidson seamount would also be prohibited with all fishing prohibited below 500 fm (914 m) as a precautionary adjustment to protect the seamount.

Summary of Rationale for the Proposed Managed Areas

Since there may be adverse impacts on EFH from fishing, NMFS has made a preliminary determination that it is necessary to take precautionary action to protect EFH from the possible adverse impacts of fishing. NMFS has concluded that there is a potential for adverse impacts from fishing activities, based on the TRC report, and other literature used in the appendices to the EIS, although these impacts cannot be specifically identified for EFH for groundfish. As a result, NMFS is proposing to minimize to the extent practicable, these unidentified impacts in the event that the regulated fishing activities do have an adverse impact on EFH that is more than minimal and not temporary. Additionally, these measures are practicable because they have minimal impact on the fishery. The gear closures are mainly in areas that are not currently being fished, and for areas that would require the industry to shift its location, the effect would be on roughly less than 10 percent of the fishery. That amount of effort is likely to be able to relocate so the net effect would be for little change in overall catch.

After reviewing the best available scientific information, NMFS cannot positively state that any adverse impacts on EFH from the groundfish fishery are occurring. Conversely, NMFS cannot positively state that there are no adverse impacts to EFH from fishing activities. NMFS does have reason to suspect that, based on general knowledge of the impacts of certain gear types used in this fishery, adverse impacts may be occurring. Based on this potential that adverse impacts are occurring but have not been identified, NMFS believes that it is necessary and appropriate to ensure that measures are taken to minimize to the extent practicable any unidentified adverse impacts to EFH that may exist.

In summary, at this time NMFS and the Pacific Council are not able to make a definitive determination that adverse effects from fishing to EFH have occurred or are occurring. However, we have taken a precautionary approach, based on the best available science, to developing the alternatives based on the potential for adverse effects to EFH. The precautionary approach is practicable because it protects EFH from potential adverse effects and does not significantly adversely affect the fishing industry and associated communities.

Specific Request for Additional Comments and Information

A coastwide prohibition on bottom trawling in all areas within the EEZ that are deeper than 700 fm (1280) is also included in the proposed regulation. NMFS is specifically seeking comment on this aspect of the regulation as well as the gear restrictions described above because they would apply in areas deeper than 3500 m (1914 fm), and, therefore, would be outside EFH. Management measures to minimize adverse impacts on EFH could apply in the EEZ in areas not described as EFH, if there is a link between the fishing activity and adverse effects on EFH. Additionally, management measures could be based on the Pacific Council's discretionary authority to protect habitat outside EFH if there is a basis for these measures. This authority is based on section 303(a)(1), 303(b)(2), and (b)(12) of the Magnuson-Stevens Act. NMFS will consider public comments and information received on this proposed rule and on the proposed Amendment 19 to determine if the measures should be applied in areas outside EFH (deeper than 3500 m (1914 fm)).

Practicability of the Management Measures

Section 303(a)(7) of the Magnuson-Stevens Act requires that FMPs minimize to the extent practicable the adverse effects of fishing on EFH. EFH regulations at 50 CFR 600.815(a)(2)(iii) state that: In determining whether it is practicable to minimize an adverse effect from fishing, Councils should consider (1) the nature and extent of the adverse effects on EFH and (2) the long-and short-term costs and benefits of potential management measures to EFH, associated fisheries, and the nation, consistent with National Standard 7. In determining whether management measures are practicable, Councils are not required to perform a formal cost/benefit analysis.

The management measures in this proposed rule provide a balance of socioeconomic costs and benefits to the fishing industry and communities, impacts to management and enforcement agencies, and protection of EFH. This suite of impact minimization measures protects a diverse set of habitat types and is most heavily focused on the bottom trawl sector by excluding areas from bottom trawling. Other fishing gears are also excluded or limited depending on the habitat, the geographic area, opportunities for research in those areas in order to further the science and management of habitat, and the amount of information known about areas and gear/habitat interaction.

Although the proposed management measures close certain areas to bottom trawling and other bottom tending gear types, these measures do not reduce catch quotas. Harvest put at risk by closed areas may be made up elsewhere within the EEZ. If closing certain areas to certain gear types appears to impact catch, then as a regular part of inseason management, the Pacific Council could be reasonably expected to increase vessel catch limits and recreational opportunities so that the fisheries may achieve, but not exceed allowable harvest levels. However, the more effort and revenue is displaced, the more likely it is that displaced revenues and effort will also translate into lost revenue and effort. Additional information on practicability and the socioeconomic impacts of the management measures is contained in the Classification section below.

Enforcement

Using traditional enforcement methods (aerial surveillance, boarding at sea via patrol boats, landing inspections and documentary investigation) is especially difficult for monitoring closed areas when those areas are large-scale. Furthermore, when management measures allow some gear types and target fishing in all or a portion of the closed area, while other fishing activities are prohibited, it is difficult and costly to effectively enforce closures using traditional methods. Scarce state and Federal resources also limit the use of traditional enforcement methods. For these reasons, the Pacific Council recommended as part of its preferred alternative in the EIS that all trawl vessels be required to carry and use vessel monitoring system (VMS) units. A VMS is a NMFS approved mobile transceiver unit that automatically determines a vessel's position for enforcement monitoring by NMFS, Office of Law Enforcement. In 2004, NMFS implemented a VMS requirement for limited entry fishery participants in order to maintain the integrity of the Rockfish Conservation Areas (RCAs) and their benefits to rebuilding overfished groundfish species. Concurrent with its work on Amendment 19, the Pacific Council also developed recommendations to expand VMS requirements to the open access groundfish fisheries to maintain the integrity of the RCAs in those fisheries. When the Pacific Council took final action on VMS requirements in the open access fisheries, it also recommended that NMFS implement VMS requirements for the non-groundfish trawl vessels that would be affected by the trawl gear area prohibitions in Amendment 19. NMFS is developing a proposed rule for publication in early 2006 that would expand the VMS program requirements to include all open access vessels that take and retain, possess, or land groundfish, as well as all non-groundfish trawl vessels—including those targeting pink shrimp, California halibut, sea cucumber, and ridgeback prawn. The VMS expansion action and this Amendment 19 action will be managed so that implementation is as nearly concurrent as possible; however, implementation of this proposed rule for Amendment is not contingent on expansion of the VMS program.

Classification

These proposed management measures are issued under the authority of, and are in accordance with, the Magnuson-Stevens Act, the Pacific Coast Groundfish FMP, and 50 CFR parts 600 and 660 subpart G (the regulations implementing the Pacific Coast Groundfish FMP).

NMFS and the Pacific Council prepared a DEIS and an FEIS for this proposed action; NMFS published a Notice of Intent (NOI) to prepare an EIS on April 10, 2001 (66 FR 18586). According to the NOI, the EIS would evaluate the Pacific Coast Groundfish FMP from a broad, programmatic perspective, presenting “an overall picture of the environmental effects of fishing as conducted under Pacific Coast Groundfish FMP.” However, as a result of this initial public scoping, NMFS decided the process would be improved if the programmatic evaluation of the Pacific Coast Groundfish FMP were shifted to two separate EISs, one on bycatch minimization and one on EFH issues (67 FR 5962, February 8, 2002). A copy of the draft EIS is available on the Internet at: http://www.nwr.noaa.gov/Groundfish-Halibut/Groundfish-Fishery-Management/NEPA-Documents/Index.cfm.

This proposed rule has been determined to be not significant for purposes of Executive Order 12866.

Pursuant to Executive Order 13175, this rule was developed after meaningful consultation and collaboration with tribal officials from the area covered by the Pacific Coast Groundfish FMP. NMFS does not intend for any of the regulations described below to apply to tribal fisheries in usual and accustomed grounds described in 50 CFR 660.324(c). NMFS will continue to work with the tribes towards the goal of ensuring that, within their usual and accustomed fishing grounds, adequate measures are in place to protect EFH.

NMFS prepared an IRFA that describes the impact that this proposed rule, if adopted, would have on small entities. A description of the action, why it is being considered, and the legal basis for this action are contained at the preamble to this document. A copy of this analysis is available from NMFS (see ADDRESSES). A summary of the analysis follows.

NMFS is proposing regulations to minimize to the extent practicable adverse impacts from fishing to EFH. The proposed regulations include restrictions on the type of fishing gear that may be used and the establishment of specific areas that would be closed to specified gear types. The action is fully described in the preamble to this proposed rule.

The entities that would be directly regulated by this action are those that operate vessels fishing for groundfish, California and Pacific halibut, crab and lobster, shrimp, and species like groundfish such as California sheephead and white croaker in Federal EEZ waters off of the Pacific coast. Although harvest and gross revenue information is confidential for individual vessels, all shorebased vessels fishing off the Pacific coast are considered small entities for purposes of this IRFA. Although the number of vessels engaged in Pacific coast fisheries will vary by year, the average is approximately 3,800 to 4,300. Of these, approximately 1,500 to 1,200 participate in groundfish fisheries; 1,200 to 1,400 participate in crab fisheries; and 215 to 330 participate in shrimp fisheries, and many of these vessels participate in all three fisheries. Many vessels participating in these fisheries will be directly regulated by the proposed rule.

A total of 23 alternatives (including sub-options and the final preferred alternative) to minimize fishing impacts to EFH were analyzed within the FEIS. A brief description of the alternatives analyzed and considered in addition to the preferred alternative is described below. For a more complete description of the alternatives, see chapter 2 of the FEIS. Five of the alternatives were designed to accomplish the objective of protecting EFH while minimizing economic impacts on small entities. These include three alternatives designed to close areas to trawling that are were analyzed to be non-critical to the economic future of the trawl industry based on historical trawling patterns, an alternative to prohibit geographic expansion of the trawl fishery (e.g., limiting the fishery to historically valuable areas), and an alternative to close specified areas and compensate impacted fishermen through private purchase of their permits. The final preferred alternative includes components that were compiled from discrete elements of the other alternatives. A detailed description of all the alternatives is available in the FEIS for this action (see ADDRESSES).

Each of the alternatives analyzed by NMFS was expected to have different overall effects on the economy. The only consistent measure of gross revenue impacts is an analysis of limited entry trawl revenues that would be displaced by the alternatives. The proposed management measures in this rule would displace $8,523,085 over a 4-year period. The other alternatives would have impacts ranging from $58,458,226 to $0 for no action. In addition, a qualitative analysis of the alternatives was performed. The final preferred alternative was determined to have the most acceptable socioeconomic impact on commercial fishers, recreational fishers, and communities. In general, the proposed management measures are not expected to significantly curtail harvesting opportunities. Over the long-term, the measures may improve harvesting opportunities by enhancing the productivity of harvestable fish stocks.

The proposed management measures would result in the protection of over 67,000,000 hectares of habitat found in the U.S. exclusive economic zone off the West Coast of the U.S. This represents over 81 percent of the EEZ. Other alternatives analyzed in the FEIS protected amounts of habitat that are similar in quantity, but can be considered impracticable for various reasons. Of the alternatives protecting similar amounts of habitat, one is considered impracticable to administrative agencies because of the complexity of implementing the alternative, and one is considered impracticable because it would close the Dungeness crab fishery. The others were modified to reduce socioeconomic impacts to acceptable levels and included as part of the preferred alternative.

NMFS issued Biological Opinions (BOs) under the Endangered Species Act on August 10, 1990, November 26, 1991, August 28, 1992, September 27, 1993, May 14, 1996, and December 15, 1999, analyzing the effects of the groundfish fishery on chinook salmon (Puget Sound, Snake River spring/summer, Snake River fall, upper Columbia River spring, lower Columbia River, upper Willamette River, Sacramento River winter, Central Valley, California coastal), coho salmon (Central California coastal, southern Oregon/northern California coastal, Oregon coastal), chum salmon (Hood Canal, Columbia River), sockeye salmon (Snake River, Ozette Lake), and steelhead (upper, middle and lower Columbia River, Snake River Basin, upper Willamette River, central California coast, California Central Valley, south-central California, northern California, and southern California). During the 2000 Pacific whiting season, the whiting fisheries exceeded the chinook bycatch amount specified in the most recent Biological Opinion's (whiting BO) (December 19, 1999) incidental catch statement estimate of 11,000 fish, by approximately 500 fish. In the 2001 whiting season, however, the whiting fishery's chinook bycatch was about 7,000 fish, which approximates the long-term average. After reviewing data from, and management of, the 2000 and 2001 whiting fisheries (including industry bycatch minimization measures), the status of the affected listed chinook, environmental baseline information, and the incidental catch statement from the 1999 whiting BO, NMFS determined in a letter dated April 25, 2002, that a re-initiation of consultation for the whiting fishery was not required. NMFS has concluded that implementation of the Pacific Coast Groundfish FMP for the Pacific Coast groundfish fishery is not expected to jeopardize the continued existence of any endangered or threatened species under the jurisdiction of NMFS, or result in the destruction or adverse modification of critical habitat. This action is within the scope of these consultations.

List of Subjects in 50 CFR Part 660

Administrative practice and procedure, American Samoa, Fisheries, Fishing, Guam, Hawaiian Natives, Indians, Northern Mariana Islands, Reporting and recordkeeping requirements.

Dated: December 28, 2005.
James W. Balsiger,
Acting Deputy Assistant Administrator for Regulatory Programs, National Marine Fisheries Service.

For the reasons set out in the preamble, NMFS proposed to amend 50 CFR part 660 as follows:

PART 660—FISHERIES OFF WEST COAST STATES AND IN THE WESTERN PACIFIC

1. The authority citation for part 660 continues to read as follows:

Authority: 16 U.S.C. 1801 et seq.

2. In § 660.301, paragraph (a) is revised as follows:

§ 660.301 Purpose and scope.

(a) This subpart implements the Pacific Coast Groundfish Fishery Management Plan (PCGFMP) developed by the Pacific Fishery Management Council. This subpart governs fishing vessels of the U.S. in the EEZ off the coasts of Washington, Oregon, and California. All weights are in round weight or round-weight equivalents, unless specified otherwise.

* * * * *

3. In § 660.302, a definition for “Essential Fish Habitat EFH” is added in alphabetical order, and the definition for “Fishing gear” is revised to read as follows:

§ 660.302 Definitions.

* * * * *

Essential Fish Habitat (EFH). (See § 600.10).

* * * * *

Fishing gear includes the following types of gear and equipment:

(1) Bottom contact gear. Fishing gear designed or modified to make contact with the bottom. This includes, but is not limited to, beam trawl, bottom trawl, dredge, fixed gear, set net, demersal seine, dinglebar gear, and other gear (including experimental gear) designed or modified to make contact with the bottom. Gear used to harvest bottom dwelling organisms (e.g. by hand, rakes, and knives) are also considered bottom contact gear for purposes of this subpart.

(2) Demersal seine. A net designed to encircle fish on the seabed. The Demersal seine is characterized by having its net bounded by lead-weighted ropes that are not encircled with bobbins or rollers. Demersal seine gear is fished without the use of steel cables or otter boards (trawl doors). Scottish and Danish Seines are demersal seines. Purse seines, as defined at § 600.10, are not demersal seines. Demersal seine gear is included in the definition of bottom trawl gear in (9)(i) of this subsection.

(3) Dredge gear. Dredge gear, with respect to the U.S. West Coast EEZ, refers to a gear consisting of a metal frame attached to a holding bag constructed of metal rings or mesh. As the metal frame is dragged upon or above the seabed, fish are pushed up and over the frame, then into the mouth of the holding bag.

(4) Fixed gear (anchored nontrawl gear) includes the following gear types: Longline, trap or pot, set net, and stationary hook-and-line (including commercial vertical hook-and-line) gears.

(5) Entangling nets include the following types of net gear:

(i) Gillnet. (See § 600.10).

(ii) Set net. A stationary, buoyed, and anchored gillnet or trammel net.

(iii) Trammel net. A gillnet made with two or more walls joined to a common float line.

(6) Hook-and-line. One or more hooks attached to one or more lines. It may be stationary (commercial vertical hook-and-line) or mobile (troll).

(i) Commercial vertical hook-and-line. Commercial fishing with hook-and-line gear that involves a single line anchored at the bottom and buoyed at the surface so as to fish vertically.

(ii) Dinglebar gear. One or more lines retrieved and set with a troll gurdy or hand troll gurdy, with a terminally attached weight from which one or more leaders with one or more lures or baited hooks are pulled through the water while a vessel is making way.

(iii) Bottom longline. A stationary, buoyed, and anchored groundline with hooks attached, so as to fish along the seabed. It does not include pelagic hook-and-line or troll gear.

(iv) Troll gear. A lure or jig towed behind a vessel via a fishing line. Troll gear is used in commercial and recreational fisheries.

(7) Mesh size. The opening between opposing knots. Minimum mesh size means the smallest distance allowed between the inside of one knot to the inside of the opposing knot, regardless of twine size.

(8) Nontrawl gear. All legal commercial groundfish gear other than trawl gear.

(9) Trawl gear. (See § 600.10)

(i) Bottom trawl. A trawl in which the otter boards or the footrope of the net are in contact with the seabed. It includes demersal seine gear, and pair trawls fished on the bottom. Any trawl not meeting the requirements for a midwater trawl in § 660.381 is a bottom trawl.

(A) Beam trawl gear. A type of trawl gear in which a beam is used to hold the trawl open during fishing. Otter boards or doors are not used.

(B) Large footrope trawl gear. Large footrope gear is bottom trawl gear with a footrope diameter larger than 8 inches (20 cm,) and no larger than 19 inches (48 cm) including any rollers, bobbins, or other material encircling or tied along the length of the footrope.

(C) Small footrope trawl gear. Small footrope trawl gear is bottom trawl gear with a footrope diameter of 8 inches (20 cm) or smaller, including any rollers, bobbins, or other material encircling or tied along the length of the footrope. Selective flatfish trawl gear that meets the gear component requirements in § 660.381 is a type of small footrope trawl gear.

(ii) Midwater (pelagic or off-bottom) trawl. A trawl in which the otter boards and footrope of the net remain above the seabed. It includes pair trawls if fished in midwater. A midwater trawl has no rollers or bobbins on any part of the net or its component wires, ropes, and chains.

(iii) Trawl gear components.

(A) Breastline. A rope or cable that connects the end of the headrope and the end of the trawl fishing line along the edge of the trawl web closest to the towing point.

(B) Chafing gear. Webbing or other material attached to the codend of a trawl net to protect the codend from wear.

(C) Codend. (See § 600.10).

(D) Double-bar mesh. Webbing comprised of two lengths of twine tied into a single knot.

(E) Double-walled codend. A codend constructed of two walls of webbing.

(F) Footrope. A chain, rope, or wire attached to the bottom front end of the trawl webbing forming the leading edge of the bottom panel of the trawl net, and attached to the fishing line.

(G) Headrope. A chain, rope, or wire attached to the trawl webbing forming the leading edge of the top panel of the trawl net.

(H) Rollers or bobbins are devices made of wood, steel, rubber, plastic, or other hard material that encircle the trawl footrope. These devices are commonly used to either bounce or pivot over seabed obstructions, in order to prevent the trawl footrope and net from snagging on the seabed.

(I) Single-walled codend. A codend constructed of a single wall of webbing knitted with single or double-bar mesh.

(J) Trawl fishing line. A length of chain or wire rope in the bottom front end of a trawl net to which the webbing or lead ropes are attached.

(K) Trawl riblines. Heavy rope or line that runs down the sides, top, or underside of a trawl net from the mouth of the net to the terminal end of the codend to strengthen the net during fishing.

(10) Spear. A sharp, pointed, or barbed instrument on a shaft.

(11) Trap or pot. These terms are used as interchangeable synonyms. See § 600.10 definition of “trap.”

* * * * *

4. In § 660.306, paragraphs (a)(13) and (a)(14), and (h)(4) through (h)(10) are added to read as follows:

§ 660.306 Prohibitions.

* * * * *

(a) * * *

(13) Fish with dredge gear (defined in § 660.302) anywhere within the EEZ.

(14) Fish with beam trawl gear (defined in § 660.302) anywhere within the EEZ.

* * * * *

(h) * * *

(4) Fish with bottom trawl gear (defined in § 660.302) anywhere within the EEZ seaward of a line approximating the 700 fathom (1280 m) depth contour, as defined in § 660.395.

(5) Fish with bottom trawl gear (defined in § 660.302) with a footrope diameter greater than 19 inches (48 cm) (including rollers, bobbins or other material encircling or tied along the length of the footrope) anywhere within the EEZ.

(6) Fish with bottom trawl gear (defined in § 660.302) with a footrope diameter greater than 8 inches (20 cm) (including rollers, bobbins or other material encircling or tied along the length of the footrope) anywhere within the EEZ shoreward of a line approximating the 100-fm (183-m) depth contour (defined in § 660.393).

(7) Fish with bottom trawl gear (as defined in § 660.302), within the EEZ in the following areas (defined in §§ 660.395 through 660.397): Olympic 2, Biogenic 1, Biogenic 2, Grays Canyon, Biogenic 3, Nahelem Bank/Shale Pile, Astoria Canyon, Siletz Deepwater, Daisy Bank/Nelson Island, Newport Rockpile/ Stonewall Bank, Heceta Bank, Deepwater off Coos Bay, Bandon High Spot, Rogue Canyon.

(8) Fish with bottom trawl gear (as defined in § 660.302), other than Danish or demersal seine, within the EEZ in the following areas (defined in §§ 660.395 through 660.397): Eel River Canyon, Blunts Reef, Mendocino Ridge, Delgada Canyon, Tolo Bank, Point Arena North, Outer Cordell Bank, Pt. Arena South Biogenic Area, Farallon Islands/Fanny Shoal, Half Moon Bay, Monterey Bay/Canyon, Point Sur Deep, Big Sur Coast/Port San Luis, East Santa Lucia Bank, Point Conception, Potato Bank (within Cowcod Conservation Area West), Cherry Bank (within Cowcod Conservation Area West) Hidden Reef/Kidney Bank (within Cowcod Conservation Area West), Catalina Island and Cowcod Conservation Area East.

(9) Fish with bottom contact gear (as defined in § 660.302) within the EEZ in the following areas (defined in § 660.396): Anacapa Island SMR, Anacapa Island SMCA, Carrington Point, Footprint, Gull Island, Harris Point, Judith Rock, Painted Cave, Richardson Rock, Santa Barbara, Scorpion, Skunk Point, and South Point, Thompson Seamount, President Jackson Seamount, (50 fm (91 m) isobath).

(10) Fish with bottom contact gear (as defined in § 660.302), or any other gear that is deployed deeper than 500 fm (914 m), within the Davidson Seamount area (defined in § 660.396).

* * * * *

5. In § 660.385, the introductory text is revised to read as follows:

§ 660.385 Washington coastal tribal fisheries management measures.

In 1994, the United States formally recognized that the four Washington coastal treaty Indian tribes (Makah, Quileute, Hoh, and Quinault) have treaty rights to fish for groundfish in the Pacific Ocean, and concluded that, in general terms, the quantification of those rights is 50 percent of the harvestable surplus of groundfish that pass through the tribes usual and accustomed fishing areas (described at 50 CFR 660.324). Measures implemented to minimize adverse impacts to groundfish EFH, as described in § 660.306 do not apply to tribal fisheries in their usual and accustomed fishing areas (described in 660.324). Treaty fisheries can not operate outside ususal and accustomed fishing areas. Tribal fishery allocations for sablefish and whiting, are provided in paragraphs (a) and (e) of this section, respectively, and the tribal harvest guideline for black rockfish is provided in paragraph (b)(1) of this section. Trip limits for certain species were recommended by the tribes and the Council for 2005-2006 and are specified here with the tribal allocations.

* * * * *

6. Section 660.395 is added to read as follows:

§ 660.395 Groundfish Essential Fish Habitat (EFH) conservation areas.

Essential fish habitat (EFH) is defined as those waters and substrate necessary to fish for spawning, breeding, feeding or growth to maturity (16 U.S.C. 1802 (10). The areas in this subsection are designated to minimize to the extent practicable adverse effects to EFH caused by fishing(16 U.S.C. 1853 section 303(a)(7)). Straight lines connecting a series of latitude/longitude coordinates demarcate the boundaries for areas designated as Groundfish EFH Conservation Areas. Coordinates outlining the boundaries of Groundfish EFH Conservation Areas are provided in §§ 660.395 through 660.397. Fishing activity that is prohibited or permitted within the EEZ in a particular area designated as a groundfish EFH Conservation Area is detailed at § 660.306 and § 660.385.

(a) Seaward of the 700-fm (1280-m) contour. This area includes all waters within the West Coast EEZ west of a line approximating the 700-fm (1280-m) depth contour and is defined by straight lines connecting all of the following points in the order stated:

(1) 48°06.97′ N. lat., 126°02.96′ W. long.;

(2) 48°00.44′ N. lat., 125°54.96′ W. long.;

(3) 47°55.96′ N. lat., 125°46.51′ W. long.;

(4) 47°47.21′ N. lat., 125°43.73′ W. long.;

(5) 47°42.89′ N. lat., 125°49.58′ W. long.;

(6) 47°38.18′ N. lat., 125°37.26′ W. long.;

(7) 47°32.36′ N. lat., 125°32.87′ W. long.;

(8) 47°29.77′ N. lat., 125°26.27′ W. long.;

(9) 47°28.54′ N. lat., 125°18.82′ W. long.;

(10) 47°19.25′ N. lat., 125°17.18′ W. long.;

(11) 47°08.82′ N. lat., 125°10.01′ W. long.;

(12) 47°4.69′ N. lat., 125°03.77′ W. long.;

(13) 46°48.38′ N. lat., 125°18.43′ W. long.;

(14) 46°41.92′ N. lat., 125°17.29′ W. long.;

(15) 46°27.49′ N. lat., 124°54.36′ W. long.;

(16) 46°14.13′ N. lat., 125°02.72′ W. long.;

(17) 46°09.53′ N. lat., 125°04.75′ W. long.;

(18) 45°46.64′ N. lat., 124°54.44′ W. long.;

(19) 45°40.86′ N. lat., 124°55.62′ W. long.;

(20) 45°36.50′ N. lat., 124°51.91′ W. long.;

(21) 44°55.69′ N. lat., 125°08.35′ W. long.;

(22) 44°49.93′ N. lat., 125°01.51′ W. long.;

(23) 44°46.93′ N. lat., 125°02.83′ W. long.;

(24) 44°41.96′ N. lat., 125°10.64′ W. long.;

(25) 44°28.31′ N. lat., 125°11.42′ W. long.;

(26) 43°58.37′ N. lat., 125°02.93′ W. long.;

(27) 43°52.74′ N. lat., 125°05.58′ W. long.;

(28) 43°44.18′ N. lat., 124°57.17′ W. long.;

(29) 43°7.58′ N. lat., 125°07.70′ W. long.;

(30) 43°15.95′ N. lat., 125°07.84′ W. long.;

(31) 42°47.50′ N. lat., 124°59.96′ W. long.;

(32) 42°39.02′ N. lat., 125°01.07′ W. long.;

(33) 42°34.80′ N. lat., 125°02.89′ W. long.;

(34) 42°34.11′ N. lat., 124°55.62′ W. long.;

(35) 42°23.81′ N. lat., 124°52.85′ W. long.;

(36) 42°16.80′ N. lat., 125°00.20′ W. long.;

(37) 42°06.60′ N. lat., 124°59.14′ W. long.;

(38) 41°59.28′ N. lat., 125°06.23′ W. long.;

(39) 41°31.10′ N. lat., 125°01.30′ W. long.;

(40) 41°14.52′ N. lat., 124°52.67′ W. long.;

(41) 40°40.65′ N. lat., 124°45.69′ W. long.;

(42) 40°35.05′ N. lat., 124°45.65′ W. long.;

(43) 40°23.81′ N. lat., 124°41.16′ W. long.;

(44) 40°20.54′ N. lat., 124°36.36′ W. long.;

(45) 40°20.84′ N. lat., 124°57.23′ W. long.;

(46) 40°18.54′ N. lat., 125°09.47′ W. long.;

(47) 40°14.54′ N. lat., 125°09.83′ W. long.;

(48) 40°11.79′ N. lat., 125°07.39′ W. long.;

(49) 40°06.72′ N. lat., 125°04.28′ W. long.;

(50) 39°50.77′ N. lat., 124°37.54′ W. long.;

(51) 39°56.67′ N. lat., 124°26.58′ W. long.;

(52) 39°44.25′ N. lat., 124°12.60′ W. long.;

(53) 39°35.82′ N. lat., 124°12.02′ W. long.;

(54) 39°24.54′ N. lat., 124°16.01′ W. long.;

(55) 39°01.97′ N. lat., 124°11.20′ W. long.;

(56) 38°33.48′ N. lat., 123°48.21′ W. long.;

(57) 38°14.49′ N. lat., 123°38.89′ W. long.;

(58) 37°56.97′ N. lat., 123°31.65′ W. long.;

(59) 37°49.09′ N. lat., 123°27.98′ W. long.;

(60) 37°40.29′ N. lat., 123°12.83′ W. long.;

(61) 37°22.54′ N. lat., 123°4.65′ W. long.;

(62) 37°05.98′ N. lat., 123°05.31′ W. long.;

(63) 36°59.02′ N. lat., 122°50.92′ W. long.;

(64) 36°50.32′ N. lat., 122°17.44′ W. long.;

(65) 36°44.54′ N. lat., 122°19.42′ W. long.;

(66) 36°40.76′ N. lat., 122°17.28′ W. long.;

(67) 36°39.88′ N. lat., 122°09.69′ W. long.;

(68) 36°44.52′ N. lat., 122°07.13′ W. long.;

(69) 36°42.26′ N. lat., 122°03.54′ W. long.;

(70) 36°30.02′ N. lat., 122°09.85′ W. long.;

(71) 36°22.33′ N. lat., 122°22.99′ W. long.;

(72) 36°14.36′ N. lat., 122°21.19′ W. long.;

(73) 36°09.50′ N. lat., 122°14.25′ W. long.;

(74) 35°51.50′ N. lat., 121°55.92′ W. long.;

(75) 35°49.53′ N. lat., 122°13.00′ W. long.;

(76) 34°58.30′ N. lat., 121°36.76′ W. long.;

(77) 34°53.13′ N. lat., 121°37.49′ W. long.;

(78) 34°46.54′ N. lat., 121°46.25′ W. long.;

(79) 34°37.81′ N. lat., 121°35.72′ W. long.;

(80) 34°37.72′ N. lat., 121°27.35′ W. long.;

(81) 34°26.77′ N. lat., 121°07.58′ W. long.;

(82) 34°18.54′ N. lat., 121°05.01′ W. long.;

(83) 34°02.68′ N. lat., 120°54.30′ W. long.;

(84) 33°48.11′ N. lat., 120°25.46′ W. long.;

(85) 33°42.54′ N. lat., 120°38.24′ W. long.;

(86) 33°46.26′ N. lat., 120°43.64′ W. long.;

(87) 33°40.71′ N. lat., 120°51.29′ W. long.;

(88) 33°33.14′ N. lat., 120°40.25′ W. long.;

(89) 32°51.57′ N. lat., 120°23.35′ W. long.;

(90) 32°38.54′ N. lat., 120°09.54′ W. long.;

(91) 32°35.76′ N. lat., 119°53.43′ W. long.;

(92) 32°29.54′ N. lat., 119°46.00′ W. long.;

(93) 32°25.99′ N. lat., 119°41.16′ W. long.;

(94) 32°30.46′ N. lat., 119°33.15′ W. long.;

(95) 32°23.47′ N. lat., 119°25.71′ W. long.;

(96) 32°19.19′ N. lat., 119°13.96′ W. long.;

(97) 32°13.18′ N. lat., 119°04.44′ W. long.;

(98) 32°13.40′ N. lat., 118°51.87′ W. long.;

(99) 32°19.62′ N. lat., 118°47.80′ W. long.;

(100) 32°27.26′ N. lat., 118°50.29′ W. long.;

(101) 32°8.42′ N. lat., 118°53.15′ W. long.;

(102) 32°31.30′ N. lat., 118°55.09′ W. long.;

(103) 32°33.04′ N. lat., 118°53.57′ W. long.;

(104) 32°19.07′ N. lat., 118°27.54′ W. long.;

(105) 32°18.57′ N. lat., 118°18.97′ W. long.;

(106) 32°09.01′ N. lat., 118°13.96′ W. long.;

(107) 32°06.57′ N. lat., 118°18.78′ W. long.;

(108) 32°01.32′ N. lat., 118°18.21′ W. long.; and

(109) 31°57.82′ N. lat., 118°10.34′ W. long.;

(b) Astoria Canyon. Astoria Canyon is defined by straight lines connecting all of the following points in the order stated:

(1) 46°06.48′ N. lat., 125°05.46′ W. long.;

(2) 46°03.00′ N. lat., 124°57.36′ W. long.;

(3) 46°02.28′ N. lat., 124°57.66′ W. long.;

(4) 46°01.92′ N. lat., 125°02.46′ W. long.;

(5) 45°48.72′ N. lat., 124°56.58′ W. long.;

(6) 45°47.70′ N. lat., 124°52.20′ W. long.;

(7) 45°40.86′ N. lat., 124°55.62′ W. long.;

(8) 45°29.82′ N. lat., 124°54.30′ W. long.;

(9) 45°25.98′ N. lat., 124°56.82′ W. long.;

(10) 45°26.04′ N. lat., 125°10.50′ W. long.;

(11) 45°33.12′ N. lat., 125°16.26′ W. long.;

(12) 45°40.32′ N. lat., 125°17.16′ W. long.;

(13) 46°03.00′ N. lat., 125°14.94′ W. long.; and connecting back to 46°06.48′ N. lat., 125°05.46′ W. long.

(c) Daisy Bank/Nelson Island. Daisy Bank/Nelson Island is defined by straight lines connecting all of the following points in the order stated:

(1) 44°9.73′ N. lat., 124°41.43′ W. long.;

(2) 44°39.60′ N. lat., 124°41.29′ W. long.;

(3) 44°37.17′ N. lat., 124°38.60′ W. long.;

(4) 44°35.55′ N. lat., 124°39.27′ W. long.;

(5) 44°37.57′ N. lat., 124°41.70′ W. long.;

(6) 44°36.90′ N. lat., 124°42.91′ W. long.;

(7) 44°38.25′ N. lat., 124°46.28′ W. long.;

(8) 44°38.52′ N. lat., 124°49.11′ W. long.;

(9) 44°40.27′ N. lat., 124°49.11′ W. long.;

(10) 44°41.35′ N. lat., 124°48.03′ W. long.; and connecting back to 44°39.73′ N. lat., 124°41.43′ W. long.

(d) Newport Rockpile/Stonewall Bank. Newport Rockpile/Stonewall Bank is defined by straight lines connecting all of the following points in the order stated:

(1) 44°27.61′ N. lat., 124°26.93′ W. long.;

(2) 44°34.64′ N. lat., 124°26.82′ W. long.;

(3) 44°38.15′ N. lat., 124°25.15′ W. long.;

(4) 44°37.78′ N. lat., 124°23.05′ W. long.;

(5) 44°28.82′ N. lat., 124°18.80′ W. long.;

(6) 44°25.16′ N. lat., 124°20.69′ W. long.; and connecting back to 44°27.61′ N. lat., 124°26.93′ W. long.

(e) Cherry Bank. Cherry Bank is within the Cowcod Conservation Area West, an area south of Point Conception, and is defined by straight lines connecting all of the following points in the order stated:

(1) 32°59.00′ N. lat., 119°32.05′ W. long.;

(2) 32°59.00′ N. lat., 119°17.05′ W. long.;

(3) 32°46.00′ N. lat., 119°17.05′ W. long.;

(4) 32°46.00′ N. lat., 119°32.05′ W. long.; and connecting back to 32°59.00′ N. lat., 119°32.05′ W. long.

(f) Potato Bank. Potato Bank is within the Cowcod Conservation Area West, an area south of Point Conception, and is defined by straight lines connecting all of the following points in the order stated:

(1) 33°30.00′ N. lat., 120°00.06′ W. long.;

(2) 33°30.00′ N. lat., 119°50.06′ W. long.;

(3) 33°20.00′ N. lat., 119°50.06′ W. long.;

(4) 33°20.00′ N. lat., 120°00.06′ W. long.; and connecting back to 33°30.00′ N. lat., 120°00.06′ W. long.

(g) Olympic 2. Olympic 2 is defined by straight lines connecting all of the following points in the order stated:

(1) 48°21.46′ N. lat., 124°51.61′ W. long.;

(2) 48°17.00′ N. lat., 124°57.18′ W. long.;

(3) 48°06.13′ N. lat., 125°00.68′ W. long.;

(4) 48°06.66′ N. lat., 125°06.55′ W. long.;

(5) 48°08.44′ N. lat., 125°14.61′ W. long.;

(6) 48°22.57′ N. lat., 125°09.82′ W. long.;

(7) 48°21.42′ N. lat., 125°03.55′ W. long.;

(8) 48°22.99′ N. lat., 124°59.29′ W. long.;

(9) 48°23.89′ N. lat., 124°54.37′ W. long.; and connecting back to 48°21.46′ N. lat., 124°51.61′ W. long.

(h) Biogenic 1. Biogenic 1 is defined by straight lines connecting all of the following points in the order stated:

(1) 47°29.97′ N. lat., 125°20.14′ W. long.;

(2) 47°30.01′ N. lat., 125°30.06′ W. long.;

(3) 47°40.09′ N. lat., 125°50.18′ W. long.;

(4) 47°47.27′ N. lat., 125°50.06′ W. long.;

(5) 47°47.00′ N. lat., 125°24.28′ W. long.;

(6) 47°39.53′ N. lat., 125°10.49′ W. long.;

(7) 47°30.31′ N. lat., 125°08.81′ W. long.; and connecting back to 47°29.97′ N. lat., 125°20.14′ W. long.

(i) Biogenic 2. Biogenic 2 is defined by straight lines connecting all of the following points in the order stated:

(1) 47°08.77′ N. lat., 125°00.91′ W. long.;

(2) 47°08.82′ N. lat., 125°10.01′ W. long.;

(3) 47°20.01′ N. lat., 125°10.00′ W. long.;

(4) 47°20.00′ N. lat., 125°01.25′ W. long.; and connecting back to 47°08.77′ N. lat., 125°00.91′ W. long.

(j) Biogenic 3. Biogenic 3 is defined by straight lines connecting all of the following points in the order stated:

(1) 46°48.16′ N. lat., 125°10.75′ W. long.;

(2) 46°40.00′ N. lat., 125°10.00′ W. long.;

(3) 46°40.00′ N. lat., 125°20.01′ W. long.;

(4) 46°50.00′ N. lat., 125°20.00′ W. long.; and connecting back to 46°48.16′ N. lat., 125°10.75′ W. long.

(k) Grays Canyon. Grays Canyon is defined by straight lines connecting all of the following points in the order stated:

(1) 46°′51.55′ N. lat., 125°00.00′ W. long.;

(2) 46°56.79′ N. lat., 125°00.00′ W. long.;

(3) 46°58.01′ N. lat., 124°55.09′ W. long.;

(4) 46°55.07′ N. lat., 124°54.14′ W. long.;

(5) 46°59.60′ N. lat., 124°49.79′ W. long.;

(6) 46°58.72′ N. lat., 124°48.78′ W. long.;

(7) 46°54.45′ N. lat., 124°48.36′ W. long.;

(8) 46°53.99′ N. lat., 124°49.95′ W. long.;

(9) 46°54.38′ N. lat., 124°52.73′ W. long.;

(10) 46°52.38′ N. lat., 124°52.02′ W. long.;

(11) 46°48.93′ N. lat., 124°49.17′ W. long.; and connecting back to 46°51.55′ N. lat., 120°00.00′ W. long.

(l) Tolo Bank. Tolo Bank is defined by straight lines connecting all of the following points in the order stated:

(1) 39°58.75′ N. lat., 124°04.58′ W. long.;

(2) 39°56.05′ N. lat., 124°01.45′ W. long.;

(3) 39°53.99′ N. lat., 124°00.17′ W. long.;

(4) 39°52.28′ N. lat., 124°03.12′ W. long.;

(5) 39°57.90′ N. lat., 124°07.07′ W. long.; and connecting back to 39°58.75′ N. lat., 124°04.58′ W. long.

(m) Point Sur Deep. The Point Sur Deep is defined by straight lines connecting all of the following points in the order stated:

(1) 36°25.25′ N. lat., 122°11.61′ W. long.;

(2) 36°16.05′ N. lat., 122°14.37′ W. long;

(3) 36°16.14′ N. lat., 122°15.94′ W. long.;

(4) 36°17.98′ N. lat., 122°15.93′ W. long.;

(5) 36°17.83′ N. lat., 122°22.56′ W. long.;

(6) 36°22.33′ N. lat., 122°22.99′ W. long.;

(7) 36°26.00′ N. lat., 122°20.81′ W. long.; and connecting back to 36°25.25′ N. lat., 122°11.61′ W. long.

(n) Pt. Arena North. Point Arena North is defined by straight lines connecting all of the following points in the order stated:

(1) 39°03.32′ N. lat., 123°51.15′ W. long.;

(2) 38°56.54′ N. lat., 123°49.79′ W. long.;

(3) 38°54.12′ N. lat., 123°52.69′ W. long.;

(4) 38°59.64′ N. lat., 123°55.02′ W. long.;

(5) 39°02.83′ N. lat., 123°55.21′ W. long.; and connecting back to 39°03.32′ N. lat., 123°51.15′ W. long.

(o) Blunts Reef. Blunts Reef is defined by straight lines connecting all of the following points in the order stated:

(1) 40°27.53′ N. lat., 124°26.84′ W. long.;

(2) 40°24.66′ N. lat., 124°29.49′ W. long.;

(3) 40°28.50′ N. lat., 124°32.42′ W. long.;

(4) 40°30.46′ N. lat., 124°32.23′ W. long.;

(5) 40°30.21′ N. lat., 124°26.85′ W. long.; and connecting back to 40°27.53′ N. lat., 124°26.84′ W. long.

(p) Pt. Arena South Biogenic Area. Pt. Arena South Biogenic Area is defined by straight lines connecting all of the following points in the order stated:

(1) 38°35.49′ N. lat., 123°34.79′ W. long.;

(2) 38°32.86′ N. lat., 123°41.09′ W. long.;

(3) 38°34.92′ N. lat., 123°42.53′ W. long.;

(4) 38°35.74′ N. lat., 123°43.82′ W. long.;

(5) 38°47.28′ N. lat., 123°51.19′ W. long.;

(6) 38°49.50′ N. lat., 123°45.83′ W. long.;

(7) 38°41.22′ N. lat., 123°41.76′ W. long.; and connecting back to 38°35.49′ N. lat., 123°34.79′ W. long.

(q) Half Moon Bay. Half Moon Bay is defined by straight lines connecting all of the following points in the order stated:

(1) 37°18.14′ N. lat., 122°31.15′ W. long.;

(2) 37°19.80′ N. lat., 122°34.70′ W. long.;

(3) 37°19.28′ N. lat., 122°38.76′ W. long.;

(4) 37°23.54′ N. lat., 122°40.75′ W. long.;

(5) 37°25.41′ N. lat., 122°33.20′ W. long.;

(6) 37°23.28′ N. lat., 122°30.71′ W. long.; and connecting back to 37°18.14′ N. lat., 122°31.15′ W. long.

(r) Big Sur Coast/Port San Luis. Big Sur Coast/Port San Luis is defined by straight lines connecting all of the following points in the order stated:

(1) 36°17.83′ N. lat., 122°22.56′ W. long.;

(2) 36°17.98′ N. lat., 122°15.93′ W. long.;

(3) 36°16.14′ N. lat., 122°15.94′ W. long.;

(4) 36°10.82′ N. lat., 122°15.97′ W. long.;

(5) 36°15.84′ N. lat., 121°56.35′ W. long.;

(6) 36°14.27′ N. lat., 121°53.89′ W. long.;

(7) 36°10.93′ N. lat., 121°48.66′ W. long.;

(8) 36°07.40′ N. lat., 121°43.14′ W. long.;

(9) 36°04.89′ N. lat., 121°51.34′ W. long.;

(10) 35°55.70′ N. lat., 121°50.02′ W. long.;

(11) 35°53.05′ N. lat., 121°56.69′ W. long.;

(12) 35°38.99′ N. lat., 121°49.73′ W. long.;

(13) 35°20.06′ N. lat., 121°27.00′ W. long.;

(14) 35°20.54′ N. lat., 121°35.84′ W. long.;

(15) 35°02.49′ N. lat., 121°35.35′ W. long.;

(16) 35°02.79′ N. lat., 121°26.30′ W. long.;

(17) 34°58.71′ N. lat., 121°24.21′ W. long.;

(18) 34°47.24′ N. lat., 121°22.40′ W. long.;

(19) 34°35.70′ N. lat., 121°45.99′ W. long.;

(20) 35°47.36′ N. lat., 122°30.25′ W. long.;

(21) 35°27.26′ N. lat., 122°45.15′ W. long.;

(22) 35°34.39′ N. lat., 123°00.25′ W. long.;

(23) 36°01.64′ N. lat., 122°40.76′ W. long.;

(24) 36°17.41′ N. lat., 122°41.22′ W. long.; and connecting back to 36°17.83′ N. lat., 122°22.56′ W. long.

(s) East San Lucia Bank. East San Lucia Bank is defined by straight lines connecting all of the following points in the order stated:

(1) 34°45.09′ N. lat., 121°05.73′ W. long.;

(2) 34°39.90′ N. lat., 121°10.30′ W. long.;

(3) 34°43.39′ N. lat., 121°14.73′ W. long.;

(4) 34°52.83′ N. lat., 121°14.85′ W. long.;

(5) 34°52.82′ N. lat., 121°05.90′ W. long.; and connecting back to 34°45.09′ N. lat., 121°05.73′ W. long.

(t) Point Conception. Point Conception is defined by straight lines connecting all of the following points in the order stated:

(1) 34°29.24′ N. lat., 120°36.05′ W. long.;

(2) 34°28.57′ N. lat., 120°34.44′ W. long.;

(3) 34°26.81′ N. lat., 120°33.21′ W. long.;

(4) 34°24.54′ N. lat., 120°32.23′ W. long.;

(5) 34°23.41′ N. lat., 120°30.61′ W. long.;

(6) 33°53.05′ N. lat., 121°05.19′ W. long.;

(7) 34°13.64′ N. lat., 121°20.91′ W. long.;

(8) 34°40.04′ N. lat., 120°54.01′ W. long.;

(9) 34°36.41′ N. lat., 120°43.48′ W. long.;

(10) 34°33.50′ N. lat., 120°43.72′ W. long.;

(11) 34°31.22′ N. lat., 120°42.06′ W. long.;

(12) 34°30.04′ N. lat., 120°40.27′ W. long.;

(13) 34°30.02′ N. lat., 120°40.23′ W. long.;

(14) 34°29.26′ N. lat., 120°37.89′ W. long.; and connecting back to 34°29.24′ N. lat., 120°36.05′ W. long.

(u) Nehalem Bank/Shale Pile. Nehalem Bank/Shale Pile is defined by straight lines connecting all of the following points in the order stated:

(1) 46°00.60′ N. lat., 124°33.94′ W. long.;

(2) 45°52.77′ N. lat., 124°28.75′ W. long.;

(3) 45°47.95′ N. lat., 124°31.70′ W. long.;

(4) 45°52.75′ N. lat., 124°39.20′ W. long.;

(5) 45°58.02′ N. lat., 124°38.99′ W. long.;

(6) 46°00.83′ N. lat., 124°36.78′ W. long.; and connecting back to 46°00.60′ N. lat., 124°33.94′ W. long.

(v) Bandon High Spot. Bandon High Spot is defined by straight lines connecting all of the following points in the order stated:

(1) 43°08.83′ N. lat., 124°50.93′ W. long.;

(2) 43°08.77′ N. lat., 124°49.82′ W. long.;

(3) 43°05.16′ N. lat., 124°49.05′ W. long.;

(4) 43°02.94′ N. lat., 124°46.87′ W. long.;

(5) 42°57.18′ N. lat., 124°46.01′ W. long.;

(6) 42°56.10′ N. lat., 124°47.48′ W. long.;

(7) 42°56.66′ N. lat., 124°48.79′ W. long.;

(8) 42°52.89′ N. lat., 124°52.59′ W. long.;

(9) 42°53.82′ N. lat., 124°55.76′ W. long.;

(10) 42°57.56′ N. lat., 124°54.10′ W. long.;

(11) 42°58.00′ N. lat., 124°52.99′ W. long.;

(12) 43°00.39′ N. lat., 124°51.77′ W. long.;

(13) 43°02.64′ N. lat., 124°52.01′ W. long.;

(14) 43°04.60′ N. lat., 124°53.01′ W. long.;

(15) 43°05.89′ N. lat., 124°51.60′ W. long.; and connecting back to 43°08.83′ N. lat., 124°50.93′ W. long.

(w) Heceta Bank. Heceta Bank is defined by straight lines connecting all of the following points in the order stated:

(1) 43°57.68′ N. lat., 124°55.48′ W. long.;

(2) 44°00.14′ N. lat., 124°55.25′ W. long.;

(3) 44°02.88′ N. lat., 124°53.96′ W. long.;

(4) 44°13.47′ N. lat., 124°38.72′ W. long.;

(5) 44°13.52′ N. lat., 124°40.45′ W. long.;

(6) 44°09.00′ N. lat., 124°45.30′ W. long.;

(7) 44°03.46′ N. lat., 124°45.71′ W. long.;

(8) 44°03.26′ N. lat., 124°49.42′ W. long.;

(9) 43°58.61′ N. lat., 124°49.87′ W. long.; and connecting back to 43°57.68′ N. lat., 124°55.48′ W. long.

(x) Rogue Canyon. Rogue Canyon is defined by straight lines connecting all of the following points in the order stated:

(1) 42°41.33′ N. lat., 125°16.61′ W. long.;

(2) 42°41.55′ N. lat., 125°03.05′ W. long.;

(3) 42°35.29′ N. lat., 125°02.21′ W. long.;

(4) 42°34.11′ N. lat., 124°55.62′ W. long.;

(5) 42°30.61′ N. lat., 124°54.97′ W. long.;

(6) 42°23.81′ N. lat., 124°52.85′ W. long.;

(7) 42°17.94′ N. lat., 125°10.17′ W. long.; and connecting back to 42°41.33′ N. lat., 125°16.61′ W. long.

(y) Deepwater off Coos Bay. Deepwater off Coos Bay is defined by straight lines connecting all of the following points in the order stated:

(1) 43°29.32′ N. lat., 125°20.11′ W. long.;

(2) 43°38.96′ N. lat., 125°18.75′ W. long.;

(3) 43°37.88′ N. lat., 125°08.26′ W. long.;

(4) 43°36.58′ N. lat., 125°06.56′ W. long.;

(5) 43°33.04′ N. lat., 125°08.41′ W. long.;

(6) 43°27.74′ N. lat., 125°07.25′ W. long.;

(7) 43°15.95′ N. lat., 125°07.84′ W. long.;

(8) 43°15.38′ N. lat., 125°10.47′ W. long.;

(9) 43°25.73′ N. lat., 125°19.36′ W. long.; and connecting back to 43°29.32′ N. lat., 125°0.11′ W. long.

(z) Siletz Deepwater. Siletz Deepwater is defined by straight lines connecting all of the following points in the order stated:

(1) 44°42.72′ N. lat., 125°08.49′ W. long.;

(2) 44°56.26′ N. lat., 125°12.61′ W. long.;

(3) 44°56.34′ N. lat., 125°09.13′ W. long.;

(4) 44°49.93′ N. lat., 125°01.51′ W. long.;

(5) 44°46.93′ N. lat., 125°02.83′ W. long.;

(6) 44°41.96′ N. lat., 125°10.64′ W. long.;

(7) 44°33.36′ N. lat., 125°08.82′ W. long.;

(8) 44°33.38′ N. lat., 125°07.08′ W. long.; and connecting back to 44°42.72′ N. lat., 125°18.49′ W. long.

(aa) Essential fish habitat (EFH) is defined as those waters and substrate necessary to fish for spawning, breeding, feeding or growth to maturity. The areas in this subsection are designated to minimize adverse effects to EFH caused by fishing to the extent practicable. Straight lines connecting a series of Latitude/longitude coordinates demarcate the boundaries for areas designated as Groundfish EFH Conservation Areas.

Coordinates outlining the boundaries of Groundfish EFH Conservation Areas are provided in §§ 660.395 through 660.397. Fishing activity that is prohibited or permitted within the EEZ in a particular area designated as a groundfish EFH Conservation Area is detailed at § 660.306 and § 660.385.

(bb) Hidden Reef/Kidney Bank. Hidden Reef/Kidney Bank is defined by straight lines connecting all of the following points in the order stated:

(1) 33°48.00′ N. lat., 119°15.06′ W. long.;

(2) 33°48.00′ N. lat., 118°57.06′ W. long.;

(3) 33°33.00′ N. lat., 118°57.06′ W. long.;

(4) 33°33.00′ N. lat., 119°15.06′ W. long.; and connecting back to 33°48.00′ N. lat., 119°15.06′ W. long.

(cc) Eel River Canyon. Eel River Canyon is defined by straight lines connecting all of the following points in the order stated:

(1) 40°38.27′ N. lat., 124°27.16′ W. long.;

(2) 40°35.60′ N. lat., 124°28.75′ W. long.;

(3) 40°37.52′ N. lat., 124°33.41′ W. long.;

(4) 40°37.47′ N. lat., 124°40.46′ W. long.;

(5) 40°35.47′ N. lat., 124°42.97′ W. long.;

(6) 40°32.78′ N. lat., 124°44.79′ W. long.;

(7) 40°24.32′ N. lat., 124°39.97′ W. long.;

(8) 40°23.26′ N. lat., 124°42.45′ W. long.;

(9) 40°27.34′ N. lat., 124°51.21′ W. long.;

(10) 40°32.68′ N. lat., 125°05.63′ W. long.;

(11) 40°49.12′ N. lat., 124°47.41′ W. long.;

(12) 40°44.32′ N. lat., 124°46.48′ W. long.;

(13) 40°40.75′ N. lat., 124°47.51′ W. long.;

(14) 40°40.65′ N. lat., 124°46.02′ W. long.;

(15) 40°39.69′ N. lat., 124°33.36′ W. long.; and connecting back to 40°38.27′ N. lat., 124°27.16′ W. long.

(dd) Davidson Seamount. Davidson Seamount is defined by straight lines connecting the following points in the order stated:

(1) 35°54.00′ N. lat., 123°00.00′ W. long.;

(2) 35°54.00′ N. lat., 122°30.00′ W. long.;

(3) 35°30.00′ N. lat., 122°30.00′ W. long.;

(4) 35°30.00′ N. lat., 123°00.00′ W. long.; and connecting back to 35°54.00′ N. lat., 123°00.00′ W. long.

(ee) Cordell Bank/Biogenic Area. Cordell Bank/Biogenic Area is located offshore of California's Marin County defined by straight lines connecting all of the following points in the order stated:

(1) 38°04.05′ N. lat., 123°07.28′ W. long.;

(2) 38°02.84′ N. lat., 123°07.36′ W. long.;

(3) 38°01.09′ N. lat., 123°07.06′ W. long.;

(4) 38°01.02′ N. lat., 123°22.08′ W. long.;

(5) 37°54.75′ N. lat., 123°23.64′ W. long.;

(6) 37°46.01′ N. lat., 123°25.62′ W. long.;

(7) 37°46.68′ N. lat., 123°27.05′ W. long.;

(8) 37°47.66′ N. lat., 123°28.18′ W. long.;

(9) 37°50.26′ N. lat., 123°30.94′ W. long.;

(10) 37°54.41′ N. lat., 123°32.69′ W. long.;

(11) 37°56.94′ N. lat., 123°32.87′ W. long.;

(12) 37°57.12′ N. lat., 123°25.04′ W. long.;

(13) 37°59.43′ N. lat., 123°27.29′ W. long.;

(14) 38°00.82′ N. lat., 123°29.61′ W. long.;

(15) 38°02.31′ N. lat., 123°30.88′ W. long.;

(16) 38°03.99′ N. lat., 123°30.75′ W. long.;

(17) 38°04.85′ N. lat., 123°30.36′ W. long.;

(18) 38°04.88′ N. lat., 123°27.85′ W. long.;

(19) 38°04.44′ N. lat., 123°24.44′ W. long.;

(20) 38°03.05′ N. lat., 123°21.33′ W. long.;

(21) 38°05.77′ N. lat., 123°06.83′ W. long.; and connecting back to 38°04.05′ N. lat., 123°07.28′ W. long.

(ff) Cordell Bank (50 fm (91 m) isobath). Cordell Bank (50 fm (91 m) isobath) is located offshore of California's Marin County defined by straight lines connecting all of the following points in the order stated:

(1) 37°57.62′ N. lat., 123°24.22′ W. long.;

(2) 37°57.70′ N. lat., 123°25.25′ W. long.;

(3) 37°59.47′ N. lat., 123°26.63′ W. long.;

(4) 38°00.24′ N. lat., 123°27.87′ W. long.;

(5) 38°00.98′ N. lat., 123°27.65′ W. long.;

(6) 38°02.81′ N. lat., 123°28.75′ W. long.;

(7) 38°04.26′ N. lat., 123°29.25′ W. long.;

(8) 38°04.55′ N. lat., 123°28.32′ W. long.;

(9) 38°03.87′ N. lat., 123°27.69′ W. long.;

(10) 38°04.27′ N. lat., 123°26.68′ W. long.;

(11) 38°02.67′ N. lat., 123°24.17′ W. long.;

(12) 38°00.87′ N. lat., 123°23.15′ W. long.;

(13) 37°59.32′ N. lat., 123°22.52′ W. long.;

(14) 37°58.24′ N. lat., 123°23.16′ W. long.; and connecting back to 37°57.62′ N. lat., 123°24.22′ W. long.

(gg) Cowcod Conservation Area East. Cowcod Conservation Area East is an area west of San Diego defined by straight lines connecting all of the following points in the order stated:

(1) 32°41.15′ N. lat., 118°02.00′ W. long.;

(2) 32°42.00′ N. lat., 118°02.00′ W. long.;

(3) 32°42.00′ N. lat., 117°50.00′ W. long.;

(4) 32°36.70′ N. lat., 117°50.00′ W. long.;

(5) 32°30.00′ N. lat., 117°53.50′ W. long.;

(6) 32°30.00′ N. lat., 118°02.00′ W. long.;

(7) 32°40.49′ N. lat., 118°02.00′ W. long.; and connecting back to 32°41.15′ N. lat., 118°02.00′ W. long.

(hh) Thompson Seamount. Thompson Seamount is defined by straight lines connecting all of the following points in the order stated:

(1) 46°06.93′ N. lat., 128°39.77′ W. long.;

(2) 46°06.76′ N. lat., 128°39.60′ W. long.;

(3) 46°07.80′ N. lat., 128°39.43′ W. long.;

(4) 46°08.50′ N. lat., 128°34.39′ W. long.;

(5) 46°06.76′ N. lat., 128°29.36′ W. long.;

(6) 46°03.64′ N. lat., 128°28.67′ W. long.;

(7) 45°59.64′ N. lat., 128°31.62′ W. long.;

(8) 45°56.87′ N. lat., 128°33.18′ W. long.;

(9) 45°53.92′ N. lat., 128°39.25′ W. long.;

(10) 45°54.26′ N. lat., 128°43.42′ W. long.;

(11) 45°56.87′ N. lat., 128°45.85′ W. long.;

(12) 46°00.86′ N. lat., 128°46.02′ W. long.;

(13) 46°03.29′ N. lat., 128°44.81′ W. long.;

(14) 46°06.24′ N. lat., 128°42.90′ W. long.; and connecting back to 46°06.93′ N. lat., 128°39.77′ W. long.

(ii) President Jackson Seamount. President Jackson Seamount is defined by straight lines connecting all of the following points in the order stated:

(1) 42°21.41′ N. lat., 127°42.91′ W. long.;

(2) 42°21.96′ N. lat., 127°43.73′ W. long.;

(3) 42°23.78′ N. lat., 127°46.09′ W. long.;

(4) 42°26.05′ N. lat., 127°48.64′ W. long.;

(5) 42°28.60′ N. lat., 127°52.10′ W. long.;

(6) 42°31.06′ N. lat., 127°55.02′ W. long.;

(7) 42°34.61′ N. lat., 127°58.84′ W. long.;

(8) 42°37.34′ N. lat., 128°01.48′ W. long.;

(9) 42°39.62′ N. lat., 128°05.12′ W. long.;

(10) 42°41.81′ N. lat., 128°08.13′ W. long.;

(11) 42°43.44′ N. lat., 128°10.04′ W. long.;

(12) 42°44.99′ N. lat., 128°12.04′ W. long.;

(13) 42°48.27′ N. lat., 128°15.05′ W. long.;

(14) 42°51.28′ N. lat., 128°15.05′ W. long.;

(15) 42°53.64′ N. lat., 128°12.23′ W. long.;

(16) 42°52.64′ N. lat., 128°08.49′ W. long.;

(17) 42°51.64′ N. lat., 128°06.94′ W. long.;

(18) 42°50.27′ N. lat., 128°05.76′ W. long.;

(19) 42°48.18′ N. lat., 128°03.76′ W. long.;

(20) 42°45.45′ N. lat., 128°01.94′ W. long.;

(21) 42°42.17′ N. lat., 127°57.57′ W. long.;

(22) 42°41.17′ N. lat., 127°53.92′ W. long.;

(23) 42°38.80′ N. lat., 127°49.92′ W. long.;

(24) 42°36.43′ N. lat., 127°44.82′ W. long.;

(25) 42°33.52′ N. lat., 127°41.36′ W. long.;

(26) 42°31.24′ N. lat., 127°39.63′ W. long.;

(27) 42°28.33′ N. lat., 127°36.53′ W. long.;

(28) 42°23.96′ N. lat., 127°35.89′ W. long.;

(29) 42°21.96′ N. lat., 127°37.72′ W. long.;

(30) 42°21.05′ N. lat., 127°40.81′ W. long.; and connecting back to 42°21.41′ N. lat., 127°42.91′ W. long.

(jj) Catalina Island. Catalina Island is defined by straight lines connecting all of the following points in the order stated:

(1) 33°34.71′ N. lat., 118°11.40′ W. long.;

(2) 33°05.88′ N. lat., 118°03.76′ W. long.;

(3) 33°11.69′ N. lat., 118°09.21′ W. long.;

(4) 33°19.73′ N. lat., 118°35.41′ W. long.;

(5) 33°23.90′ N. lat., 118°35.11′ W. long.;

(6) 33°25.68′ N. lat., 118°41.66′ W. long.;

(7) 33°30.25′ N. lat., 118°42.25′ W. long.;

(8) 33°32.73′ N. lat., 118°38.38′ W. long.;

(9) 33°27.07′ N. lat., 118°20.33′ W. long.; and connecting back to 33°34.71′ N. lat., 118°11.40′ W. long.

(kk) Monterey Bay/Canyon. Monterey Bay/Canyon is defined by straight lines connecting all of the following points in the order stated:

(1) 36°38.21′ N. lat., 121°55.96′ W. long.;

(2) 36°25.31′ N. lat., 121°54.86′ W. long.;

(3) 36°25.25′ N. lat., 121°58.34′ W. long.;

(4) 36°30.86′ N. lat., 122°00.45′ W. long.;

(5) 36°30.02′ N. lat., 122°09.85′ W. long.;

(6) 36°30.23′ N. lat., 122°36.82′ W. long.;

(7) 36°55.08′ N. lat., 122°36.46′ W. long.;

(8) 36°51.41′ N. lat., 122°14.14′ W. long.;

(9) 36°49.37′ N. lat., 122°15.20′ W. long.;

(10) 36°48.31′ N. lat., 122°18.59′ W. long.;

(11) 36°45.55′ N. lat., 122°18.91′ W. long.;

(12) 36°40.76′ N. lat., 122°07.28′ W. long.;

(13) 36°39.88′ N. lat., 122°09.69′ W. long.;

(14) 36°44.94′ N. lat., 122°08.46′ W. long.;

(15) 36°47.37′ N. lat., 122°03.16′ W. long.;

(16) 36°49.60′ N. lat., 122°00.85′ W. long.;

(17) 36°51.53′ N. lat., 121°58.25′ W. long.;

(18) 36°50.78′ N. lat., 121°56.89′ W. long.;

(19) 36°47.39′ N. lat., 121°58.16′ W. long.;

(20) 36°48.34′ N. lat., 121°50.95′ W. long.;

(21) 36°47.23′ N. lat., 121°52.25′ W. long.;

(22) 36°45.60′ N. lat., 121°54.17′ W. long.;

(23) 36°44.76′ N. lat., 121°56.04′ W. long.;

(24) 36°41.68′ N. lat., 121°56.33′ W. long.; and connecting back to 36°38.21′ N. lat., 121°55.96′ W. long.

(ll) Farallon Islands/Fanny Shoal. Farallon Islands, Fanny Shoal is defined by straight lines connecting all of the following points in the order stated:

(1) 37°51.58′ N. lat., 123°14.07′ W. long.;

(2) 37°44.51′ N. lat., 123°01.50′ W. long.;

(3) 37°41.71′ N. lat., 122°58.38′ W. long.;

(4) 37°40.80′ N. lat., 122°58.54′ W. long.;

(5) 37°39.87′ N. lat., 122°59.64′ W. long.;

(6) 37°42.05′ N. lat., 123°03.72′ W. long.;

(7) 37°43.73′ N. lat., 123°04.45′ W. long.;

(8) 37°49.23′ N. lat., 123°16.81′ W. long.; and connecting back to 37°51.58′ N. lat., 123°14.07′ W. long.

(mm) Delgada Canyon. Delgada Canyon is defined by straight lines connecting all of the following points in the order stated:

(1) 40°07.13′ N. lat., 124°09.09′ W. long.;

(2) 40°06.58′ N. lat., 124°07.39′ W. long.;

(3) 40°01.18′ N. lat., 124°08.84′ W. long.;

(4) 40°02.48′ N. lat., 124°12.93′ W. long.;

(5) 40°05.71′ N. lat., 124°09.42′ W. long.;

(6) 40°07.18′ N. lat., 124°09.61′ W. long.; and connecting back to 40°07.13′ N. lat., 124°09.09′ W. long.

(nn) Mendocino Ridge. Mendocino Ridge is defined by straight lines connecting all of the following points in the order stated:

(1) 40°25.23′ N. lat., 124°24.06′ W. long.;

(2) 40°12.50′ N. lat., 124°22.59′ W. long.;

(3) 40°14.40′ N. lat., 124°35.82′ W. long.;

(4) 40°16.16′ N. lat., 124°39.01′ W. long.;

(5) 40°17.47′ N. lat., 124°40.77′ W. long.;

(6) 40°19.26′ N. lat., 124°07.97′ W. long.;

(7) 40°19.98′ N. lat., 124°52.73′ W. long.;

(8) 40°20.06′ N. lat., 125°02.18′ W. long.;

(9) 40°11.79′ N. lat., 125°07.39′ W. long.;

(10) 40°12.55′ N. lat., 125°11.56′ W. long.;

(11) 40°12.81′ N. lat., 125°02.98′ W. long.;

(12) 40°20.72′ N. lat., 125°57.31′ W. long.;

(13) 40°23.96′ N. lat., 125°56.83′ W. long.;

(14) 40°24.04′ N. lat., 125°56.82′ W. long.;

(15) 40°25.68′ N. lat., 125°09.77′ W. long.;

(16) 40°21.03′ N. lat., 124°33.96′ W. long.;

(17) 40°25.72′ N. lat., 124°24.15′ W. long.; and connecting back to 40°25.23′ N. lat., 124°24.06′ W. long.

(oo) Anacapa Island SMCA. Anacapa Island SMCA is bounded by mean high water and straight lines connecting all of the following points in the order stated:

(1) 34°00.80′ N. lat., 119°26.70′ W. long.;

(2) 34°05.00′ N. lat., 119°26.70′ W. long.;

(3) 34°05.00′ N. lat., 119°24.60′ W. long.;

(4) 34°00.40′ N. lat., 119°24.60′ W. long.

(pp) Anacapa Island SMR. Anacapa Island SMR is bounded by mean high water and straight lines connecting all of the following points in the order stated:

(1) 34°00.40′ N. lat., 119°24.60′ W. long.;

(2) 34°05.00′ N. lat., 119°24.60′ W. long.;

(3) 34°05.00′ N. lat., 119°21.40′ W. long.;

(4) 34°01.00′ N. lat., 119°21.40′ W. long.

(qq) Carrington Point. Carrington Point is bounded by mean high water and straight lines connecting all of the following points:

(1) 34°01.30′ N. lat., 120°05.20′ W. long.;

(2) 34°04.00′ N. lat., 120°05.20′ W. long.;

(3) 34°04.00′ N. lat., 120°01.00′ W. long.;

(4) 34°00.50′ N. lat., 120°01.00′ W. long.;

(5) 34°00.50′ N. lat., 120°02.80′ W. long.;

(rr) Footprint. Footprint is defined by straight lines connecting all of the following points in the order stated:

(1) 33°59.00′ N. lat., 119°26.00′ W. long.;

(2) 33°59.00′ N. lat., 119°31.00′ W. long.;

(3) 33°54.11′ N. lat., 119°31.00′ W. long.;

(4) 33°54.11′ N. lat., 119°26.00′ W. long.; and connecting back to 33°59.00′ N. lat., 119°26.00′ W. long.

(ss) Gull Island. Gull Island is bounded by mean high water and straight lines connecting all of the following points in the order stated:

(1) 33°58.02′ N. lat., 119°51.00′ W. long.;

(2) 33°58.02′ N. lat., 119°53.00′ W. long.;

(3) 33°51.63′ N. lat., 119°53.00′ W. long.;

(4) 33°51.62′ N. lat., 119°48.00′ W. long.;

(5) 33°57.70′ N. lat., 119°48.00′ W. long.

(tt) Harris Point. Harris Point is bounded by mean high water and straight lines connecting all of the following points in the order stated:

(1) 34°03.10′ N. lat., 120°23.30′ W. long.;

(2) 34°12.50′ N. lat., 120°23.30′ W. long.;

(3) 34°12.50′ N. lat., 120°18.40′ W. long.;

(4) 34°01.80′ N. lat., 120°18.40′ W. long.;

(5) 34°02.90′ N. lat., 120°20.20′ W. long.;

(6) 34°03.50′ N. lat., 120°21.30′ W. long.;

(uu) Harris Point Exception. An exemption to the Harris Point reserve, where commercial and recreational take of living marine resources is allowed, exists between mean high water in Cuyler Harbor and a straight line connecting all of the following points:

(1) 34°02.90′ N. lat., 120°20.20′ W. long.;

(2) 34°03.50′ N. lat., 120°21.30′ W. long.;

(vv) Judith Rock. Judith Rock is bounded by mean high water and a straight line connecting all of the following points in the order stated:

(1) 34°01.80′ N. lat., 120°26.60′ W. long.;

(2) 33°58.50′ N. lat., 120°26.60′ W. long.;

(3) 33°58.50′ N. lat., 120°25.30′ W. long.;

(4) 34°01.50′ N. lat., 120°25.30′ W. long.

(ww) Painted Cave. Painted Cave is bounded by mean high water and a straight line connecting all of the following points in the order stated:

(1) 34°04.50′ N. lat., 119°53.00′ W. long.;

(2) 34°05.20′ N. lat., 119°53.00′ W. long.;

(3) 34°05.00′ N. lat., 119°51.00′ W. long.;

(4) 34°04.00′ N. lat., 119°51.00′ W. long.

(xx) Richardson Rock. Richardson Rock is defined by straight lines connecting all of the following points in the order stated:

(1) 34°10.40′ N. lat., 120°28.20′ W. long.;

(2) 34°10.40′ N. lat., 120°36.29′ W. long.;

(3) 34°02.21′ N. lat., 120°36.29′ W. long.;

(4) 34°02.21′ N. lat., 120°28.20′ W. long.; and connecting back to 34°10.40′ N. lat., 120°28.20′ W. long.

(yy) Santa Barbara. Santa Barbara is bounded by mean high water and straight lines connecting all of the following points in the order stated:

(1) 33°28.50′ N. lat., 119°01.70′ W. long.;

(2) 33°28.50′ N. lat., 118°54.54′ W. long.;

(3) 33°21.78′ N. lat., 118°54.54′ W. long.;

(4) 33°21.78′ N. lat., 119°02.20′ W. long.;

(5) 33°27.90′ N. lat., 119°02.20′ W. long.

(zz) Scorpion. Scorpion is bounded by mean high water and a straight line connecting all of the following points in the order stated:

(1) 34°02.94′ N. lat., 119°35.50′ W. long.;

(2) 34°09.35′ N. lat., 119°35.50′ W. long.;

(3) 34°09.35′ N. lat., 119°32.80′ W. long.;

(4) 34°02.80′ N. lat., 119°32.80′ W. long.

(aaa) Skunk Point. Skunk Point is bounded by mean high water and straight lines connecting all of the following points in the order stated:

(1) 33°59.00′ N. lat., 119°58.80′ W. long.;

(2) 33°59.00′ N. lat., 119°58.02′ W. long.;

(3) 33°57.10′ N. lat., 119°58.00′ W. long.;

(4) 33°57.10′ N. lat., 119°58.20′ W. long.;

(bbb) South Point. South Point is bounded by mean high water and straight lines connecting all of the following points in the order stated:

(1) 33°55.00′ N. lat., 120°10.00′ W. long.;

(2) 33°50.40′ N. lat., 120°10.00′ W. long.;

(3) 33°50.40′ N. lat., 120°06.50′ W. long.;

(4) 33°53.80′ N. lat., 120°06.50′ W. long.

[FR Doc. 06-209 Filed 1-11-06; 8:45 am]

BILLING CODE 3510-22-P